DEPARTMENT OF HEALTH AND HUMAN SERVICES

Centers for Disease Control and Prevention

[60Day-07-05DA]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Surveillance of HIV/AIDS Related Events Among Persons Not Receiving Care—New—National Center for HIV, STD, and TB Prevention (NCHSTP), Centers for Disease Control and Prevention (CDC).

Background and Brief Description

CDC is requesting approval from the Office of Management and Budget (OMB) to interview 1,000 randomly selected HIV-infected persons in the United States who are not receiving care to determine: (1) Their reasons for not being in care; (2) information about any barriers to receiving care; and (3) their clinical status (i.e., CD4, HIV viral load levels and drug resistance). There are approximately 1 million HIV-infected persons in the United States. Of these, an estimated 75 percent know they are infected, but approximately half of those who know they are infected do not have evidence of having received any medical care for their HIV infection.

For this proposed data collection, areas participating in CDC's Morbidity Monitoring Project (MMP) will identify HIV-infected people using their state's HIV/AIDS surveillance and supplemental laboratory databases. Once HIV-infected people who are not in care are identified, a structured interview will be conducted. The target number of structured interviews is 500. Qualitative interviews will be conducted with the first 75 persons who agree to a second interview. The information to be collected includes demographic data, HIV testing history, high-risk drug use and sexual behaviors, and reasons for not using health care and treatment.

Results from this study will be used in conjunction with data from the MMP to determine the extent of medical services and resources needed for persons who are infected with HIV, but who have not received medical care and treatment. Additionally, new data related to those not receiving care will be used to design effective interventions for linking persons to care. Participation in the data collection is voluntary and there is no cost to respondents to participate in the survey other than their time.

Estimated Annualized Burden Hours
Types of data collection | Number of respondents | Number of responses per respondent | Average burden per response (in hours) | Total burden hours
Structured Interview | 500 | 1 | 30/60 | 250
Qualitative Interview | 75 | 1 | 1 | 75
Total |  |  |  | 325

Dated: October 23, 2006.
Joan F. Karr,
Acting Reports Clearance Officer, Centers for Disease Control and Prevention.

[FR Doc. E6-18012 Filed 10-26-06; 8:45 am]

BILLING CODE 4163-18-P